DEPARTMENT OF ENERGY

10 CFR Part 431

[EERE-2020-BT-STD-0006]

Energy Conservation Program: Energy Conservation Standards for External Power Supplies

AGENCY: Office of Energy Efficiency and Renewable Energy, Department of Energy.

ACTION: Request for information; reopening of the public comment period.

SUMMARY: On May 20, 2020, the U.S. Department of Energy (“DOE”) published a request for information (“RFI”) pertaining to the energy conservation standards for external power supplies. The request provided an opportunity for submitting written comments, data, and information by July 6, 2020. Prior to the end of the comment period for the request of information, DOE received a request from a group of industry trade groups seeking additional time to consider the applicability and impact of an updated energy conservation standard for this equipment.

DATES: The comment period for the RFI, published on May 20, 2020 (85 FR 30636), which closed on July 6, 2020, is hereby reopened and extended. DOE will accept written comments, data, and information in response to the RFI no later than August 24, 2020.

ADDRESSES: Interested persons are encouraged to submit comments using the Federal eRulemaking Portal at http://www.regulations.gov. Follow the instructions for submitting comments. Alternatively, interested persons may submit comments, identified by docket number EERE-2020-BT-STD-0006, by any of the following methods:

1. Federal eRulemaking Portal: http://www.regulations.gov. Follow the instructions for submitting comments.

2. Email: EPS2020STD006@ee.doe.gov. Include the docket number EERE-2020-BT-STD-0006 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

4. Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2020-BT-STD-0006. The docket web page contains instructions on how to access all documents, including public comments, in the docket.

FOR FURTHER INFORMATION CONTACT: Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov. Mr. Michael Kido, U.S. Department of Energy, Office of the General Counsel, GC-33, 1000 Independence Avenue SW, Washington, DC 20585-0121. Telephone: (202) 586-8145. Email: Michael.Kido@hq.doe.gov.

For further information on how to submit a comment, or review other public comments and the docket contact the Appliance and Equipment Standards Program staff at (202) 586-6636 or by email: ApplianceStandardsQuestions@ee.doe.gov.

SUPPLEMENTARY INFORMATION: DOE published a Request for Information (“RFI”) pertaining to the energy conservation standards for external power supplies on May 20, 2020. 85 FR 30636. The RFI initiated a data collection process to consider whether to amend DOE's energy conservation standards for external power supplies, and whether amending the standards for external power supplies would result in significant energy savings and be technologically feasible and economically justified. DOE requested submission of written comment, data, and information pertaining to these standards by July 6, 2020.

On June 24, 2020, the Association of Home Appliance Manufacturers (“AHAM”), Consumer Technology Association (“CTA”), and Information Technology Industry Council (“ITI”), interested parties in the matter, requested a 30-day extension of the public comment period for the RFI that DOE previously published in the Federal Register on May 20, 2020. (AHAM, CTA, and ITI, EERE-2020-BT-STD-0006, No. 2) The comment period for the RFI closed on July 6, 2020.¹

¹ Available at https://www.regulations.gov/document?D=EERE-2020-BT-STD-0006-0002.

After carefully considering this request, DOE has determined that a reopening of the comment period to allow additional time for interested parties to submit comments is appropriate. Therefore, DOE is reopening the comment period and will accept comments until August 24, 2020, to provide interested parties additional time to prepare and submit comments. Accordingly, DOE will consider any comments received by this date, to be timely submitted.

Signing Authority

This document of the Department of Energy was signed on July 8, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 8, 2020.
Treena V. Garrett,
Federal Register Liaison Officer, U.S. Department of Energy.

[FR Doc. 2020-15079 Filed 7-22-20; 8:45 am]

BILLING CODE 6450-01-P